DEPARTMENT OF THE INTERIOR

National Park Service

Temporary Concession Contract for Great Smoky Mountains National Park, TN

ACTION: Notice of proposed award.

SUMMARY: Public notice is hereby given that the National Park Service (NPS) proposes to award a temporary concession contract that requires the operation of horseback riding stables and vending machine sales of soft drinks and bottled water, and authorizes limited souvenir sales in the Sugarlands region of the Great Smoky Mountains National Park near Gatlinburg, Tennessee for a term not to exceed October 31, 2006.

EFFECTIVE DATE: June 27, 2005.

FOR FURTHER INFORMATION CONTACT: Henry Benedetti, Chief, Commercial Services, National Park Service, Southeast Region, 404-562-3112, extension 661.

SUPPLEMENTARY INFORMATION: The temporary concession contract is being awarded to Smoky Mountain Stables, Inc., a qualified person, as that term is defined in 36 CFR 51.3. The NPS terminated the prior concession contract at Sugarlands on May 2, 2005, has taken all reasonable and necessary steps to consider alternatives to avoid further interruption of visitor services, and has determined that this award is necessary to avoid further interruption of visitor services.

This action is issued pursuant to 36 CFR 51.24(a). This is not a request for proposals and no prospectus is being issued at this time. The Director intends to issue a prospectus in 2006 to allow the competitive award of a long-term concession contract that will be effective prior to the 2007 operation season at Sugarlands. You may be placed on a mailing list for receiving information regarding the prospectus by sending a written request to the above address.

Dated: May 16, 2005.
Patricia A. Hooks,
Regional Director, Southeast Region, National Park Service.

[FR Doc. 05-11145 Filed 6-3-05; 8:45 am]

BILLING CODE 4312-53-P